GOVERNMENT ACCOUNTABILITY OFFICE

4 CFR Chapter I

Nomenclature Changes

AGENCY: Government Accountability Office.

ACTION: Final rule.

SUMMARY: The GAO Human Capital Reform Act of 2004 changed the name of the General Accounting Office to the Government Accountability Office. Accordingly, this technical amendment changes the name of the agency in the heading of the chapter in which the Government Accountability Office's regulations appear, chapter I of title 4 of the Code of Federal Regulations. This document also redesignates all references in chapter I of the Government Accountability Office's regulations. This rulemaking is technical in nature, and merely implements a statutory mandate.

DATES: Effective Date: April 7, 2005.

FOR FURTHER INFORMATION CONTACT: Jeffrey S. Forman, Assistant General Counsel, Government Accountability Office, room 7838D, 441 G Street, NW., Washington, DC 20548, (202) 512-9763.

SUPPLEMENTARY INFORMATION: On July 7, 2004, the President signed the GAO Human Capital Reform Act of 2004 (Pub. L. 108-271), providing the Government Accountability Office with additional flexibilities in its human capital management. Section 8 of Public Law 108-271 changed the name of the General Accounting Office to the Government Accountability Office to more accurately reflect the audit and evaluation work in which the Office engages to assist the Congress in fulfilling its constitutional responsibilities.

This document changes the name of the agency from General Accounting Office to Government Accountability Office. Accordingly, chapter I of title 4 of the Code of Regulations is amended so that in every place in which the name General Accounting Office has appeared the name will now be read as Government Accountability Office. The Government Accountability Office finds good cause for making this final rule effective immediately, since the rule is merely a technical amendment following a statutory change in our name and underlying statute.

For the reasons set out above, title 4, chapter I of the Code of Federal Regulations is amended under the authority of section 8 of Pub. L. 108-271, 118 Stat. 814.

CHAPTER I—GENERAL ACCOUNTING OFFICE

1. The heading of chapter I is revised to read as set forth below:

CHAPTER I—GOVERNMENT ACCOUNTABILITY OFFICE

2. In 4 CFR chapter I, remove the words “General Accounting Office”, and add in their place, the words “Government Accountability Office”, wherever they appear.

Issued on: April 1, 2005.
Anthony H. Gamboa,
General Counsel.

[FR Doc. 05-6924 Filed 4-6-05; 8:45 am]

BILLING CODE 1610-02-M